DEPARTMENT OF ENERGY

Federal Energy Regulatory Commission

[Docket No. CP15-77-000]

Tennessee Gas Pipeline Company; Notice of Application

Take notice that on January 30, 2015, Tennessee Gas Pipeline Company (Tennessee) filed an application with the Federal Energy Regulatory Commission pursuant to sections 7(b) and 7(c) of the Natural Gas Act (NGA) requesting authority to construct and operate the Broad Run Expansion Project (Project) in Kentucky, Tennessee and West Virginia. Specifically, Tennessee requests authorization to: (i) Construct a new 10,771 hp Compressor Station 118A in Kanawha County, West Virginia; (ii) construct a new 20,500 hp Compressor Station 119A in Kanawha County, West Virginia; (iii) construct a new 16,000 hp Compressor Station 875 in Madison County Kentucky; (iv) construct a new 30,000 hp Compressor Station 563 in Davidson County, Tennessee; (v) install 32,000 hp of new compression at the existing Compressor Station 106 in Powell County, Kentucky; and (vi) install 20,500 hp of additional compression at the existing Compressor Station 114 in Boyd County, Kentucky. The project is designed to provide an additional 200,000 dekatherms per day of firm incremental transportation service for Antero Resources Corporation. A total of 29,750 hp of added compression at the two existing compressor stations in Kentucky would replace old equipment and would be referred to as the Replacement Component of the Project. The remaining balance of the added hp at the existing stations and all of the hp proposed at the new stations are referred to as the Market Component of the Project. The estimated costs for the Market and Replacement components are $337.8 million and $68.5 million respectively.

This filing is available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TYY, (202) 502-8659.

Any questions regarding the application should be directed to Shannon M. Miller, Senior Regulatory Analyst, Tennessee Gas Pipeline Company, LLC, 1001 Louisiana Street, Houston, TX 77002, by phone at (713) 420-4038 or by email at shannon_miller@kindermorgan.com.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and seven copies of the protest or intervention to the Federal Energy regulatory Commission, 888 First Street NE., Washington, DC 20426.

Comment Date: March 5, 2015.

Dated: February 12, 2015.
Nathaniel J. Davis, Sr.,
Deputy Secretary.

[FR Doc. 2015-03437 Filed 2-18-15; 8:45 am]

BILLING CODE 6717-01-P